DEPARTMENT OF COMMERCE

National Oceanic and Atmospheric Administration

RIN 0648-XB48

Marine Mammals; File No. 932-1489

AGENCY: National Marine Fisheries Service (NMFS), National Oceanic and Atmospheric Administration (NOAA), Commerce.

ACTION: Notice; issuance of permit amendment.

SUMMARY: Notice is hereby given that the NMFS Marine Mammal Health and Stranding Response Program has been issued an amendment to scientific research and enhancement Permit No. 932-1489-08.

ADDRESSES: The amendment and related documents are available for review upon written request or by appointment in the following office(s): see SUPPLEMENTARY INFORMATION.

FOR FURTHER INFORMATION CONTACT: Amy Sloan, Dr. Tammy Adams, or Carrie Hubard, (301)713-2289.

SUPPLEMENTARY INFORMATION: The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

Permit No. 932-1489-08 (70 FR 38883) authorizes the NMFS Marine Mammal Health and Stranding Response Program to carry out activities pursuant to Title IV of the MMPA (16 U.S.C. 1421 et seq.), including activities directed on threatened and endangered marine mammals, and import and export activities. This amendment (Permit No. 932-1489-09) extends the expiration date of the permit one year, to June 30, 2008.

Issuance of this permit amendment, as required by the ESA, was based on a finding that such permit amendment: (1) was applied for in good faith; (2) will not operate to the disadvantage of such endangered species; and (3) is consistent with the purposes and policies set forth in section 2 of the ESA.

The amendment and related documents are available for review in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)973-2935; fax (808)973-2941;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Dated: July 12, 2007.
P. Michael Payne,
Chief, Permits, Conservation and Education Division, Office of Protected Resources, National Marine Fisheries Service.

[FR Doc. E7-13949 Filed 7-18-07; 8:45 am]

BILLING CODE 3510-22-S